OFFICE OF PERSONNEL MANAGEMENT

Proposed Collection; Comment Request for Clearance of a Revised Information Collection: RI 20-1

AGENCY: Office of Personnel Management.

ACTION: Notice.

SUMMARY: In accordance with the Paperwork Reduction Act of 1995 (Public Law 104-13, May 22, 1995), this notice announces that the Office of Personnel Management (OPM) intends to submit to the Office of Management and Budget (OMB) a request for clearance of a revised information collection. Annuitants who were entitled to minimum annuity before the repeal of the minimum annuity provisions on February 27, 1986, continue to be paid minimum annuity. OPM uses RI 20-1, Minimum Annuity Application, to determine if an annuitant qualifies for minimum annuity.

Comments are particularly invited on:

• Whether this collection of information is necessary for the proper performance of functions of OPM, and whether it will have practical utility;

• Whether our estimate of the public burden of this collection is accurate, and based on valid assumptions and methodology; and

• Ways in which we can minimize the burden of the collection of information on those who are to respond, through use of the appropriate technological collection techniques or other forms of information technology.

Approximately 50 RI 20-1 forms will be completed annually. We estimate it takes approximately 15 minutes to complete the form. The annual burden is 13 hours.

For copies of this proposal, contact Mary Beth Smith-Toomey on (202) 606-8358, or E-mail to mbtoomey@opm.gov.

DATES: Comments on this proposal should be received on or before August 6, 2001.

ADDRESSES: Send or deliver comments to Ronald W. Melton, Chief, Operations Support Division, Retirement and Insurance Service, U.S. Office of Personnel Management, 1900 E Street, NW., Room 3349A, Washington, DC 20415-3540.

For Information Regarding Administrative Coordination Contact: Donna G. Lease, Team Leader, Forms Analysis and Design, Budget and Administrative Services Division, (202) 606-0623.

Office of Personnel Management.
Steven R. Cohen,
Acting Director.

[FR Doc. 01-14334 Filed 6-6-01; 8:45 am]

BILLING CODE 6325-50-P